AGENCY FOR INTERNATIONAL DEVELOPMENT

Malaria Vaccine Development Program Federal Advisory Committee; Notice of Meeting

Pursuant to the Federal Advisory Committee Act, notice is hereby given of a meeting of the USAID Malaria Vaccine Development Program (MVDP) Federal Advisory Committee. The meeting will be held from 9 a.m. to 5 p.m. on 1 May 2001 and from 9 a.m. to 3 p.m. on 2 May 2001 at the Conference Room of the Environmental Health Project located in Suite 300, 1611 North Kent Street in Arlington, VA 22209-2111. The agenda will concentrate on the activities of the MVDP over the past six months and on future plans.

The meeting will be partially closed since proprietary information will be discussed throughout the meeting. However, an open public information session including a program briefing and opportunity for discussion will be held from 10-10:30 on 1 May.

Those wishing to attend or obtain additional information about the USAID MVDP should contact Carter Diggs, the designated Federal Officer for the USAID MVDP Federal Advisory Committee at the Office of Health and Nutrition, USAID MVDP Federal Advisory Committee at the Office of Health and Nutrition, USAID/G/PHN/HN/EH, Room 3.07-013, 3rd floor, RRB, Washington, DC 20523-3700, telephone (202) 712-5728, Fax (202) 216-3702, cdiggs@usaid.gov.

Carter Diggs,
USAID Designated Federal Officer, Senior Technical Advisor, Malaria Vaccine Development Program.

[FR Doc. 01-9771 Filed 4-19-01; 8:45 am]

BILLING CODE 6116-01-M